DEPARTMENT OF ENERGY

Federal Energy Regulatory Commission

Combined Notice of Filings #1

Take notice that the Commission received the following electric corporate filings:

Docket Numbers: EC19-98-000.

Applicants: Grady Wind Energy Center, LLC, Pattern Energy Group Inc.

Description: Application for Authorization Under Section 203 of the Federal Power Act, et al. of Grady Wind Energy Center, et al.

Filed Date: 6/3/19.

Accession Number: 20190603-5200.

Comments Due: 5 p.m. ET 6/24/19.

Docket Numbers: EC19-99-000.

Applicants: Empire Generating Co, LLC.

Description: Application for Authorization Under Section 203 of the Federal Power Act, et al. of Emprie Generating Co, LLC.

Filed Date: 6/4/19.

Accession Number: 20190604-5080.

Comments Due: 5 p.m. ET 6/25/19.

Take notice that the Commission received the following exempt wholesale generator filings:

Docket Numbers: EG19-118-000.

Applicants: Story County Wind, LLC.

Description: Notification of Self-Certification of Exempt Wholesale Generator Status of Story County Wind, LLC.

Filed Date: 6/3/19.

Accession Number: 20190603-5138.

Comments Due: 5 p.m. ET 6/24/19.

Docket Numbers: EG19-119-000.

Applicants: Ashtabula Wind I, LLC.

Description: Notice of Self-Certification of Exempt Wholesale Generator Status of Ashtabula Wind I, LLC.

Filed Date: 6/4/19.

Accession Number: 20190604-5073.

Comments Due: 5 p.m. ET 6/25/19.

Docket Numbers: EG19-120-000.

Applicants: Quitman Solar, LLC.

Description: Notice of Self-Certification of Exempt Wholesale Generator Status of Quitman Solar, LLC.

Filed Date: 6/4/19.

Accession Number: 20190604-5074.

Comments Due: 5 p.m. ET 6/25/19.

Docket Numbers: EG19-121-000.

Applicants: Dougherty County Solar, LLC.

Description: Notice of Self-Certification of Exempt Wholesale Generator Status of Dougherty County Solar, LLC.

Filed Date: 6/4/19.

Accession Number: 20190604-5075.

Comments Due: 5 p.m. ET 6/25/19.

Take notice that the Commission received the following electric rate filings:

Docket Numbers: ER18-92-003.

Applicants: Carroll County Energy LLC.

Description: Compliance filing: Settlement Compliance Filing to be effective 12/1/2017.

Filed Date: 6/3/19.

Accession Number: 20190603-5166.

Comments Due: 5 p.m. ET 6/24/19.

Docket Numbers: ER19-1230-000.

Applicants: TRS Fuel Cell, LLC.

Description: Report Filing: Refund Report to be effective N/A.

Filed Date: 6/3/19.

Accession Number: 20190603-5162.

Comments Due: 5 p.m. ET 6/24/19.

Docket Numbers: ER19-2035-000.

Applicants: Frontier Utilities Northeast LLC.

Description: § 205(d) Rate Filing: Frontier Utilities Northeast LLC Amendment to Notification of Change in Status to be effective 6/4/2019.

Filed Date: 6/3/19.

Accession Number: 20190603-5214.

Comments Due: 5 p.m. ET 6/24/19.

Docket Numbers: ER19-2036-000.

Applicants: Emera Maine.

Description: Initial rate filing: Houlton Water Company Service Agreement to be effective 6/1/2019.

Filed Date: 6/3/19.

Accession Number: 20190603-5109.

Comments Due: 5 p.m. ET 6/24/19.

Docket Numbers: ER19-2037-000.

Applicants: ITC Midwest LLC.

Description: § 205(d) Rate Filing: Filing of Joint Use Pole Agreement with Access Energy to be effective 8/3/2019.

Filed Date: 6/3/19.

Accession Number: 20190603-5141.

Comments Due: 5 p.m. ET 6/24/19.

Docket Numbers: ER19-2038-000.

Applicants: ITC Midwest LLC.

Description: § 205(d) Rate Filing: Filing of Master JUA with Eastern Iowa to be effective 8/3/2019.

Filed Date: 6/3/19.

Accession Number: 20190603-5147.

Comments Due: 5 p.m. ET 6/24/19.

Docket Numbers: ER19-2039-000.

Applicants: PJM Interconnection, L.L.C.

Description: § 205(d) Rate Filing: ISA, SA No. 5382; Queue No. W3-003/AD2-026/AE1-156; Cancel WMPA, SA No. 3333 to be effective 5/3/2019.

Filed Date: 6/3/19.

Accession Number: 20190603-5148.

Comments Due: 5 p.m. ET 6/24/19.

Docket Numbers: ER19-2040-000.

Applicants: Energia Sierra Juarez U.S., LLC.

Description: Compliance filing: Energia Sierra Juarez U.S., LLC Compliance Filing to be effective 5/28/2019.

Filed Date: 6/3/19.

Accession Number: 20190603-5157.

Comments Due: 5 p.m. ET 6/24/19.

Docket Numbers: ER19-2043-000.

Applicants: PJM Interconnection, L.L.C.

Description: § 205(d) Rate Filing: Original WMPA, SA No. 5415; Queue No. AD2-215 to be effective 5/7/2019.

Filed Date: 6/4/19.

Accession Number: 20190604-5043.

Comments Due: 5 p.m. ET 6/25/19.

Docket Numbers: ER19-2044-000.

Applicants: Southern California Edison Company.

Description: § 205(d) Rate Filing: Letter Agreement Baldy Mesa Project SA No. 234 to be effective 5/24/2019.

Filed Date: 6/4/19.

Accession Number: 20190604-5046.

Comments Due: 5 p.m. ET 6/25/19.

Docket Numbers: ER19-2045-000.

Applicants: Midcontinent Independent System Operator Inc.

Description: § 205(d) Rate Filing: 2019-06-04_SA 3310 NSPM-GRE T-T (Moon Lake) to be effective 7/1/2019.

Filed Date: 6/4/19.

Accession Number: 20190604-5077.

Comments Due: 5 p.m. ET 6/25/19.

Docket Numbers: ER19-2046-000.

Applicants: NSTAR Electric Company.

Description: Notice of Termination of Interconnection and Operation Agreement (Rates Schedule No. 195) of NSTAR Electric Company.

Filed Date: 6/4/19.

Accession Number: 20190604-5088.

Comments Due: 5 p.m. ET 6/25/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 4, 2019.
Kimberly D. Bose,
Secretary.

[FR Doc. 2019-12201 Filed 6-10-19; 8:45 am]

BILLING CODE 6717-01-P